SURFACE TRANSPORTATION BOARD

[Docket No. FD 36056]

CSX Transportation, Inc.—Corporate Family Merger Exemption—The Three Rivers Railway Company

CSX Transportation, Inc. (CSXT) and The Three Rivers Railway Company (TRRC) (collectively, Applicants) have jointly filed a verified notice of exemption under 49 CFR 1180.2(d)(3) for a corporate family transaction. CSXT is a Class I rail carrier that directly controls and operates TRRC.¹ TRRC is a Class III wholly owned subsidiary of CSXT.

¹ See CSX Transp., Inc.—Continuance in Control Exemption—Three Rivers Ry., FD 32056 (ICC served Oct. 23, 1992).

Under the proposed transaction, TRRC will be merged with and into CSXT with CSXT being the surviving corporation. Applicants state that the purpose of the transaction is to simplify the corporate structure and reduce overhead costs and duplication, by eliminating one corporation while retaining the same assets to serve customers. According to Applicants, CSXT will also obtain certain other savings as a result of this transaction. Applicants state that the proposed merger of TRRC into CSXT does not contain any interchange commitments.

Unless stayed, the exemption will be effective on September 11, 2016 (30 days after the verified notice was filed). Applicants state that CSXT intends to merge TRRC into CSXT on or after that date.

This is a transaction within a corporate family of the type specifically exempted from prior review and approval under 49 CFR 1180.2(d)(3). Applicants state that the transaction will not result in adverse changes in service levels, significant operational changes, or any change in the competitive balance with carriers outside the corporate family.

Under 49 U.S.C. 10502(g), the Board may not use its exemption authority to relieve a rail carrier of its statutory obligation to protect the interests of its employees. As a condition to the use of this exemption, any employees adversely affected by this transaction will be protected by the conditions set forth in New York Dock Railway—Control—Brooklyn Eastern District Terminal, 360 I.C.C. 60 (1979).

If the notice contains false or misleading information, the exemption is void ab initio. Petitions to revoke the exemption under 49 U.S.C. 10502(d) may be filed at any time. The filing of a petition to revoke will not automatically stay the exemption. Petitions for stay must be filed no later than September 2, 2016 (at least seven days before the exemption becomes effective).

An original and 10 copies of all pleadings, referring to Docket No. FD 36056, must be filed with the Surface Transportation Board, 395 E Street SW., Washington, DC 20423-0001. In addition, one copy of each pleading must be served on Louis E. Gitomer, Law Offices of Louis E. Gitomer, 600 Baltimore Avenue, Suite 301, Towson, MD 21204.

Board decisions and notices are available on our Web site at “WWW.STB.DOT.GOV.”

Decided: August 23, 2016.
By the Board, Rachel D. Campbell, Director, Office of Proceedings.
Marline Simeon,
Clearance Clerk.

[FR Doc. 2016-20528 Filed 8-25-16; 8:45 am]

BILLING CODE 4915-01-P